ENVIRONMENTAL PROTECTION AGENCY

[FRL-7647-5]

Proposed Settlement Under Section 122(h) of the Comprehensive Environmental Response, Compensation and Liability Act Regarding the Atlantic Resources Corporation and Horseshoe Road Superfund Sites, Middlesex County, NJ

AGENCY: Environmental Protection Agency.

ACTION: Notice of proposed administrative settlement and opportunity for public comment.

SUMMARY: The United States Environmental Protection (“EPA”) is proposing to enter into an administrative settlement to resolve claims under the Comprehensive Environmental Response, Compensation and Liability Act of 1980, as amended (“CERCLA”). In accordance with section 122(h)(i)(1) of CERCLA, notice is hereby given of a proposed administrative settlement concerning the Atlantic Resources Corporation and Horseshoe Road Sites (collectively “the Sites”). Section 122(h) of CERCLA provides EPA with the authority to consider, compromise and settle certain claims for costs incurred by the United States. Notice is being published to inform the public of the proposed settlement and of the opportunity to comment. The administrative settlement is contained in the Administrative Order on Consent for Supplemental Field Investigation (“SFI”), Baseline Ecological Risk Assessment (“BERA”) and Feasibility Study (“FS”), U.S. EPA Index No. CERCLA-02-2003-2033 (the “Order”). The administrative settlement provides that after Advanced Environmental Technology Corp.; Chevron Environmental Management Co.; Essex Chemical Corp.; General Motors Corp.; ICI Americas Inc.; Johnson & Johnson; Kewanee Industries, Inc.; Novartis Pharmaceuticals Corp.; 3M Co.; and Union Carbide Corp. (collectively, “Settling Parties”) perform the SFI, BERA, and FS for the Sites pursuant to the Order, they will receive a partial credit for that work which can be applied toward EPA's unreimbursed response costs at the Sites, should EPA attempt to recover those costs from the Settling Parties in the future.

Pursuant to the administrative settlement, the Settling Parties are to be provided a credit of fifty percent (50%) of the costs incurred by them for work performed under the Order (excluding oversight costs claimed by EPA and any of Settling Parties' attorneys fees), up to a maximum amount of $350,000.00, provided that EPA has accepted the applicable Order deliverables for which credit is sought. The credit applies only to any future claim made by EPA for unreimbursed costs incurred or to be incurred by EPA concerning the Sites.

EPA will consider any comments received during the comment period and may withdraw or withhold consent to the proposed settlement if comments disclose facts or considerations that indicate the proposed settlement is inappropriate, improper, or inadequate. EPA's response to any comments received will be available for public inspection at the U.S. Environmental Protection Agency, Office of Regional Counsel, 290 Broadway—17th floor, New York, New York 10007-1866. Telephone: (212) 637-3111.

DATES: Comments must be provided by May 14, 2004.

ADDRESSES: Comments should be sent to the U.S. Environmental Protection Agency, Office of Regional Counsel, 290 Broadway—17th Floor, New York, NY 10007 and should refer to: In the Matter of the Atlantic Resources Corporation and Horseshoe Road Superfund Sites, U.S. EPA Index No. CERCLA-02-2003-2033.

FOR FURTHER INFORMATION CONTACT: U.S. Environmental Protection Agency, Office of Regional Counsel, 290 Broadway—17th Floor, New York, NY 10007, (212) 637-3142.

SUPPLEMENTARY INFORMATION: A copy of the proposed administrative settlement, as well as background information relating to the settlement, may be obtained in person or by mail from Clay Monroe, U.S. Environmental Protection Agency, Office of Regional Counsel, 290 Broadway—17th Floor, New York, NY 10007. Telephone: (212) 637-3142.

Dated: February 9, 2004.
Jane M. Kenny,
Regional Administrator, Region 2.

[FR Doc. 04-8457 Filed 4-13-04; 8:45 am]

BILLING CODE 6560-50-P